DEPARTMENT OF COMMERCE

National Telecommunications and Information Administration

Commerce Spectrum Management Advisory Committee Meeting

AGENCY: National Telecommunications and Information Administration (NTIA), Departmentof Commerce (DOC).

ACTION: Notice of Open Meeting.

SUMMARY: This notice announces a public meeting of the Spectrum Management Advisory Committee (Committee). The Committee provides advice to the Assistant Secretary for Communications and Information on spectrum management matters.

DATES: The meeting will be held on December 6, 2007, from 1:30 p.m. to 4:30 p.m. Eastern Standard Time.

ADDRESSES: The meeting will be held at the U.S. Department of Commerce, Herbert C. Hoover Building, Room 4830, 1401 Constitution Avenue N.W., Washington, D.C. Public comments may be mailed to Spectrum Management Advisory Committee, 1401 Constitution Avenue N.W., Room 4725, Washington, D.C. 20230 or emailed to spectrumadvisory@ntia.doc.gov.

FOR FURTHER INFORMATION CONTACT: Meredith Baker, Designated Federal Official, at (202) 482-1840 or mbaker@ntia.doc.gov; Joe Gattuso at (202) 482-0977 or jgattuso@ntia.doc.gov; and/or visit NTIA's web site at www.ntia.doc.gov/.

SUPPLEMENTARY INFORMATION: Background: The Secretary of Commerce established the Spectrum Management Advisory Committee (Committee) to implement a recommendation of the President's Initiative on Spectrum Management pursuant to the President's November 29, 2004 Memorandum for the Heads of Executive Departments and Agencies on the subject of “Spectrum Management for the 21st Century.”¹ This Committee is subject to the Federal Advisory Committee Act (FACA), 5 U.S.C. App. 2, and is consistent with the National Telecommunications and Information Administration Act, 47 U.S.C. § 904(b). The Committee provides advice to the Assistant Secretary of Commerce for Communications and Information on needed reforms to domestic spectrum policies and management to enable the introduction of new spectrum-dependent technologies and services, including long-range spectrum planning and policy reforms for expediting the American public's access to broadband services, public safety, and digital television. The Committee functions solely as an advisory body in compliance with the FACA.

¹ President's Memorandum on Improving Spectrum Management for the 21st Century, 49 Weekly Comp. Pres. Doc. 2875 (Nov. 29, 2004) (Executive Memorandum).

Matters to Be Considered: The Committee will receive recommendations and reports from its Technical Sharing Efficiencies and Operational Sharing Efficiences subcommittee. It will consider matters to be taken up at its next meeting and will receive the final written report formally presenting recommendations adopted at its previous meeting on May 30, 2007. It will also provide an opportunity for public comment on these matters.

Time and Date: The meeting will be held on December 6, 2007, from 1:30 p.m. to 4:30 p.m. Eastern Standard Time. These times and the agenda topics are subject to change. Please refer to NTIA's web site, http://www.ntia.doc.gov, for the most up-to-date meeting agenda.

Place: U.S. Department of Commerce, Herbert C. Hoover Building, Room 4830, 1401 Constitution Avenue N.W., Washington, D.C. The meeting will be open to the public and press on a first-come, first-served basis. Space is limited. When arriving for the meeting, attendees must present photo or passport identification or a U.S. Government building pass, if applicable, and should arrive at least one-half hour prior to the start time of the meeting. The meeting will be physically accessible to people with disabilities. Individuals requiring special services, such as sign language interpretation or other ancillary aids are asked to contact Joe Gattuso at (202) 482-0977 or jgattuso@ntia.doc.gov at least two (2) business days prior to the meeting.

Status: Interested parties are invited to attend and to submit written comments. Interested parties are permitted to file written comments with the Committee at any time before or after a meeting. If interested parties wish to submit written comments for consideration by the Committee in advance of this meeting, they should be sent to the above listed address and received by close of business on November 30, 2007 to provide sufficient time for review. Comments received after November 30, 2007, will be distributed to the Committee but may not be reviewed prior to the meeting. It would be helpful if paper submissions also include a three and one-half inch computer diskette in HTML, ASCII, Word or WordPerfect format (please specify version). Diskettes should be labeled with the name and organizational affiliation of the filer, and the name of the word processing program used to create the document. Alternatively, comments may be submitted electronically to spectrumadvisory@ntia.doc.gov. Comments provided via electronic mail may also be submitted in one or more of the formats specified above.

Records: NTIA is keeping records of all Committee proceedings. Committee records are available for public inspection at NTIA's office at the address above. Documents including the Committee's charter, membership list, agendas, minutes, and any reports are or will be available on NTIA's Committee web site at http://www.ntia.doc.gov/advisory/spectrum.

Dated: November 16, 2007.
Kathy D. Smith,
Chief Counsel, National Telecommunications and Information Administration.

[FR Doc. E7-22795 Filed 11-20-07; 8:45 am]

BILLING CODE 3510-60-S